DEPARTMENT OF ENERGY

Federal Energy Regulatory Commission

[Docket Nos. ER06-615-000; ER07-1257-000; ER08-1113-000; ER08-1178-000; ER09-241-000]

California Independent System Operator Corporation; Notice of FERC Staff Attendance

May 29, 2009.

The Federal Energy Regulatory Commission (Commission) hereby gives notice that on the following dates members of its staff will participate in teleconferences and meetings to be conducted by the California Independent System Operator (CAISO). The agenda and other documents for the teleconferences and meetings are available on the CAISO's Web site, http://www.caiso.com.

June 1, 2009 Market Simulation Review.

June 2, 2009 Systems Interface User Group.

Market Simulation Checkpoint.

June 3, 2009 Settlements and Market Clearing User Group. Congestion Revenue Rights.

June 4, 2009 Market Simulation Checkpoint.

June 9, 2009 Systems Interface User Group. Market Simulation Checkpoint.

June 10, 2009 Settlements and Market Clearing User Group. Congestion Revenue Rights.

June 11, 2009 Market Simulation Checkpoint.

June 16, 2009 Systems Interface User Group.

Sponsored by the CAISO, the teleconferences and meetings are open to all market participants, and Commission staff's attendance is part of the Commission's ongoing outreach efforts. The teleconferences and meetings may discuss matters at issue in the above captioned dockets.

For further information, contact Saeed Farrokhpay at saeed.farrokhpay@ferc.gov; (916) 294-0322 or Maury Kruth at maury.kruth@ferc.gov, (916) 294-0275.

Kimberly D. Bose,
Secretary.

[FR Doc. E9-13224 Filed 6-5-09; 8:45 am]

BILLING CODE P